OFFICE OF PERSONNEL MANAGEMENT

Submission for OMB Review; Comment Request for Reinstatement of a Revised Information Collection: Nonforeign Area Cost-of-Living Allowance; Price and Background Surveys

AGENCY: Office of Personnel Management.

ACTION: Notice.

SUMMARY: In accordance with the Paperwork Reduction Act of 1995, the Office of Personnel Management (OPM) has submitted to the Office of Management and Budget (OMB) a request for reinstatement of two previously-approved information collections for which approval has expired. OPM uses the two information collections—a price survey and a background survey—to gather data to be used in determining cost-of-living allowances (COLAs) for certain Federal employees in Alaska, Hawaii, Guam and the Commonwealth of the Northern Mariana Islands, Puerto Rico, and the U.S. Virgin Islands. The price surveys will be conducted in each COLA area on a rotating basis once every 3 years and annually in the Washington, DC, area. The background surveys will be conducted in these same areas and according to the same schedule, but on a more limited basis.

The price survey is necessary for collecting living-cost data used to determine cost-of-living allowances (COLAs) paid to General Schedule, U.S. Postal Service, and certain other Federal employees in the allowance areas. COLAs are based on differences in living costs in the allowance areas compared with living costs in the Washington, DC, area. The background survey is used to improve the COLA methodology and to plan the price surveys and determine such things as the appropriateness of items, services, and businesses selected for survey.

OPM will survey selected retail, service, realty, and other businesses and local governments in the allowance areas and in the Washington, DC, area. Approximately 2,200 establishments will be contacted in the price survey, and approximately 30 establishments will be contacted in the background survey. Participation in the surveys is voluntary.

OPM estimates that the average price survey interview will take approximately 7 minutes, for a total burden of 257 hours. The average background survey interview will take approximately 10 minutes, for a total burden of 5 hours.

For copies of this proposal, please contact Mary Beth Smith-Toomey at (202) 606-8358; fax: (202) 418-3251; or e-mail: mbtoomey@opm.gov. Please include a mailing address with your request.

DATES: Submit comments on or before April 15, 2002.

ADDRESSES: Send or deliver comments to:

Donald J. Winstead, Assistant Director for Compensation Administration, Workforce Compensation and Performance Service, Office of Personnel Management, Room 7H31, 1900 E Street NW., Washington, DC 20415-8200, fax: (202) 606-4264, or e-mail: cola@opm.gov.

and

Joseph Lackey, OPM Desk Officer, Office of Information and Regulatory Affairs, Office of Management and Budget, New Executive Office Building NW., Room 10235, Washington, DC 20503.

FOR FURTHER INFORMATION CONTACT: Kurt M. Springmann, (202) 606-2838.

SUPPLEMENTARY INFORMATION: OPM published notice of its intention to request a reinstatement of the price and background surveys in the Federal Register on October 17, 2001 (66 FR 52813). OPM received one comment in response to the notice. The commenter noted that a sentence in the Summary section of the notice could be interpreted to mean that OPM will conduct surveys annually in selected COLA areas. We agree that the sentence could be misinterpreted, and wish to clarify that OPM will not conduct price surveys annually in any COLA area. As stated in the Supplementary Information section of the notice, OPM will conduct the price surveys in each COLA area on a rotating basis once every 3 years and annually in the Washington, DC, area.

U.S. Office of Personnel Management.
Kay Coles James,
Director.

[FR Doc. 02-6200 Filed 3-14-02; 8:45 am]

BILLING CODE 6325-39-P